DEPARTMENT OF TRANSPORTATION

Federal Railroad Administration

[Docket No. FRA-2022-0002-N-6]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before June 27, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: System for Telephonic Notification of Unsafe Conditions at Highway-Rail and Pathway Grade Crossings.

OMB Control Number: 2130-0591.

Abstract: The collection of information set forth under 49 CFR part 234 is used by FRA to ensure that the Congressional mandate ¹ to require railroad carriers to establish and maintain a toll-free telephone service to report unsafe conditions at highway-rail and pathway grade crossings is carried out. This information is used by railroads to investigate and respond to unsafe conditions and thereby reduce the risk of accidents/incidents and corresponding casualties and property damage at such crossings. Additionally, law enforcement authorities use the information to direct vehicular traffic or carry out other activities to maintain safety at the highway-rail grade crossing or pathway grade crossing.

¹ Section 205 of the Rail Safety Improvement Act of 2008 (RSIA), Public Law 110-432, Division A (October 16, 2008).

Type of Request: Extension without change (with changes in estimates) of a currently approved collection.

Affected Public: Businesses.

Form(s): N/A.

Respondent Universe: 621 railroads.

Frequency of Submission: On occasion.

Reporting Burden:

Section ² | Respondent universe | Total annual responses | Average time per response | Total annual burden hours | Total cost equivalent wage ³
|  | (A) | (B) | (C) = A * B | (D) = C *
234.303(a)-(c) and (e)—Emergency notification systems for telephonic reporting of unsafe conditions at highway-rail and pathway grade crossings—Receipt by dispatching railroad (RR) of report of unsafe condition at highway-rail grade crossing | 621 railroads | 64,000 call reports | 1 minute | 1,066.67 | $28,800.09
—(d) Receipt by dispatching RR of report of unsafe condition at pathway grade crossing | 621 railroads | 1,860 call reports | 1 minute | 31.00 | 2,400.64
234.305(a)(2)—Remedial actions in response to reports of unsafe conditions at highway-rail and pathway grade crossings—General rule on response to credible report of warning system malfunction at a highway-rail grade crossing—Prompt contact by the dispatching RR not having maintenance responsibility for all trains that are authorized to operate through the highway-rail grade crossing of the reported malfunction prior to each train's arrival at the crossing | 621 railroads | 465 contacts | 1 minute | 7.75 | 557.15
—(a)(2) General rule on response to credible report of warning system malfunction at a highway-rail grade crossing—Dispatching RR to promptly contact the maintaining RR and inform it of the reported malfunction | 621 railroads | 465 contacts | 1 minute | 7.75 | 600.16
—(b)(1) General rule on response to public report of warning system malfunction at a highway-rail grade crossing—Prompt contact by the dispatching RR to all trains that are authorized to operate through the highway-rail grade crossing in an effort to notify the train crews of the reported malfunction prior to each train's arrival at the crossing | 621 railroads | 925 contacts | 1 minute | 15.42 | 1,108.54
—(b)(1) General rule on response to public report of warning system malfunction at a highway-rail grade crossing—Prompt contact by the dispatching RR to law enforcement agency having jurisdiction over the highway-rail grade crossing to provide the necessary information for the law enforcement agency to direct traffic or carry out other activities to maintain safety at the highway-rail grade crossing | 621 railroads | 925 contacts | 1 minute | 15.42 | 1,194.12
—(b)(2) General rule on response to public report of warning system malfunction at a highway-rail grade crossing—Dispatching RR that does not have maintenance responsibility for the warning system at the highway-rail grade crossing shall promptly contact all trains that are authorized to operate through the highway-rail grade crossing in an effort to notify the train crews of the reported malfunction prior to each train's arrival at the crossing | 621 railroads | 925 contacts | 1 minute | 15.42 | 1,194.12
—(b)(2) General rule on response to report of warning system failure at a pathway grade crossing—Dispatching RR to promptly contact the law enforcement agency having jurisdiction over the highway-rail grade crossing and provide the necessary information for the law enforcement agency to direct traffic or carry out other activities to maintain safety at the highway-rail grade crossing | 621 railroads | 925 contacts | 1 minute | 15.42 | 1,194.12
—(b)(2) General rule on response to public report of warning system malfunction at a highway-rail grade crossing—Dispatching RR to promptly contact the maintaining RR and inform it of the reported malfunction and maintaining RR to promptly investigate the report, determine the nature of the malfunction, and take the appropriate action required by § 234.207 | 621 railroads | 925 contacts | 1 minute | 15.42 | 1,194.12
—(c)(1) General rule on response to report of warning system failure at a pathway grade crossing—Dispatching RR to promptly contact all trains that are authorized to operate through the pathway grade crossing in an effort to notify the train crews of the reported malfunction prior to each train's arrival at the crossing | 621 railroads | 12 contacts | 1 minute | .20 | 15.49
—(c)(1) General rule on response to report of warning system failure at a pathway grade crossing—Dispatching RR shall then promptly contact the law enforcement agency having jurisdiction over the pathway grade crossing and provide the necessary information for the law enforcement agency to direct traffic or carry out other activities to maintain safety at the pathway grade crossing | 621 railroads | 12 contacts | 1 minute | .20 | 15.49
—(c)(2) General rule on response to report of warning system failure at a pathway grade crossing—Dispatching RR that does not have maintenance responsibility for the warning system at the pathway grade crossing shall promptly contact all trains that are authorized to operate through the pathway grade crossing in an effort to notify the train crews of the reported failure prior to each train's arrival at the crossing | 465 railroads | 2 contacts | 1 minute | .03 | 2.32
—(c)(2) General rule on response to report of warning system failure at a pathway grade crossing—Dispatching RR to promptly contact the law enforcement agency having jurisdiction over the pathway grade crossing and provide the necessary information for the law enforcement agency to direct traffic or carry out other activities to maintain safety at the pathway grade crossing | 465 railroads | 2 contacts | 1 minute | .03 | 2.32
—(c)(2) General rule on response to report of warning system failure at a pathway grade crossing—Dispatching RR to promptly contact the maintaining railroad and inform it of the reported failure | 465 railroads | 2 contacts | 1 minute | .03 | 2.32
—(d)(1) General rule on response to report of a disabled vehicle or other obstruction blocking a railroad track at a highway-rail or pathway grade crossing—Dispatching RR having maintenance authority to notify all trains operating through highway-rail or pathway grade crossing in an effort to notify the train crews of the report of disabled vehicle/other obstruction prior to each train's arrival at the crossing | 621 railroads | 7,440 contacts | 1 minute | 124.00 | 9,602.56
—(d)(1) General rule on response to report of a disabled vehicle or other obstruction blocking a railroad track at a highway-rail or pathway grade crossing—Dispatching RR having maintenance responsibility to contact law enforcement authority and provide information about report of disabled vehicle/other obstruction | 621 railroads | 7,440 contacts | 1 minute | 124.00 | 9,602.56
—(d)(2) General rule on response to report of a disabled vehicle or other obstruction blocking a railroad track at a highway-rail or pathway grade crossing—Dispatching RR not having maintenance responsibility to contact all trains operating through highway rail or pathway grade crossing in an effort to notify the train crews of the report of disabled vehicle/other obstruction prior to each train's arrival at the crossing | 621 railroads | 2,560 contacts | 1 minute | 42.67 | 3,067.55
—(d)(2) General rule on response to report of a disabled vehicle or other obstruction blocking a railroad track at a highway-rail or pathway grade crossing—Dispatching RR not having maintenance responsibility to contact law enforcement authority and provide information about report of disabled vehicle/other obstruction | 621 railroads | 2,560 contacts | 1 minute | 42.67 | 3,304.36
—(d)(2) General rule on response to report of a disabled vehicle or other obstruction blocking a railroad track at a highway-rail or pathway grade crossing—Dispatching RR contact of maintaining RR regarding report of disabled vehicle/other obstruction and maintaining RR prompt investigation of the report, determination of the nature of the obstruction, and taking necessary action to have reported obstruction removed | 621 railroads | 2,560 contacts | 1 minute | 42.67 | 3,304.36
—(e) Special rule on contacting a train that is not required to have communication equipment | 621 railroads | 2 contacts | 1 minute | .03 | 2.32
—(f) General rule on response to report of an obstruction of view at a highway-rail or pathway grade crossing | The estimated paperwork burden for this requirement is covered under § 234.305(a), (b), (c), and (d). Consequently, there is no additional burden associated with this requirement.
—(g) General rule on response to report of other unsafe condition at a highway-rail or pathway grade crossing | The estimated paperwork burden for this requirement is covered under § 234.305(a), (b), (c), and (d). Consequently, there is no additional burden associated with this requirement.
—(h)(1) General rule on a maintaining railroad's responsibilities for receiving reports of unsafe conditions at highway-rail and pathway grade crossings—In general—Provision of contact information by maintaining RR to dispatching RR for reports of unsafe conditions at highway rail and pathway grade crossings | 621 railroads | 12 contacts | 1 minute | .20 | 14.38
—(h)(2) General rule on a maintaining railroad's responsibilities for receiving reports of unsafe conditions at highway-rail and pathway grade crossings—Exceptions for use of a third-party telephone service and answering machine by a maintaining railroad | The estimated paperwork burden for this requirement is covered under § 234.307. Consequently, there is no additional burden associated with this requirement.
234.306(a)—Multiple dispatching or maintaining railroads with respect to the same highway-rail or pathway grade crossing; appointment of responsible railroad—Duty of multiple dispatching railroads to appoint a primary dispatching railroad for the crossing | 465 railroads | 50 appointment discussions | 60 minutes | 50.00 | 3,872.00
—(b) Duty of multiple maintaining railroads to appoint a railroad responsible for the placement and maintenance of the Emergency Notification Systems (ENS) sign(s) | 465 railroads | 50 appointment discussions | 60 minutes | 50.00 | 3,872.00
—(c) Duty of multiple maintaining railroads with respect to remedial action at the crossing | The estimated paperwork burden for this requirement is covered under § 234.305(a)(2), (b)(2), (c)(2), and (d)(2). Consequently, there is no additional burden associated with this requirement.
234.307(a)—Use of third-party telephone service by dispatching and maintaining railroads—General use of a third-party telephone service by a dispatching railroad | The burden for information (tel. no., etc.) placed on the sign pursuant to § 234.309 is included under § 234.309 below. Consequently, there is no additional burden associated with this requirement.
—(b) General use of a third-party telephone service by a maintaining railroad | The estimated paperwork burden for this requirement has been fulfilled. Consequently, there is no additional burden associated with this requirement.
—(c) Duties of third-party telephone service in contacting dispatching and maintaining railroads | The estimated paperwork burden for this requirement is covered under § 234.303 or § 234.305. Consequently, there is no additional burden associated with this requirement.
—(d)(1) Duties of railroad using third-party telephone service—Providing third-party telephone service with contact information | 621 railroads | 2 contact calls | 15 minutes | .50 | 38.72
—(d)(2) Duties of railroad using third-party telephone service—Written notice to FRA of intent to use third-party service | 621 railroads | 2 letters | 60 minutes | 2.00 | 154.88
—(d)(3) Duties of railroad using third-party telephone service—Informing FRA of any changes in use or discontinuance of third-party service | 621 railroads | 1 letter | 60 minutes | 1.00 | 77.44
—(e) Third-party telephone service and railroad responsibilities | The estimated paperwork burden for recordkeeping is covered under §§ 234.313 and 234.315. Consequently, there is no additional burden associated with this requirement.
234.309(a)—ENS Signs in general—Provision of information—Dispatching railroad for a highway-rail or pathway grade crossing to provide the maintaining railroad the telephone number that is to be displayed on the ENS sign at the crossing, not later than 180 calendar days before the date that implementation of an ENS is required | 621 railroads | 12 contacts | 10 minutes | 2.00 | 154.88
234.311(c)—ENS sign placement and maintenance—Repair or replacement of ENS sign after discovery by responsible railroad of missing, damaged, or otherwise unusable/illegible sign to vehicular/pedestrian traffic | 621 railroads | 4,000 replacement of missing or damaged signs | 15 minutes | 1,000.00 | 59,680.00
234.313(a)-(d)—Recordkeeping | 621 railroads | 65,860 records of calls | 10 minutes | 10,976.67 | 850,033.32
234.315—Electronic recordkeeping | The estimated paperwork burden for this requirement is covered under § 234.313. Consequently, there is no additional burden associated with this requirement.
Total | 621 railroads | 163,996 responses | N/A | 13,649 | 985,062

Total Estimated Annual Responses: 163,996.

² The current inventory exhibits a total burden of 15,317 hours while the total burden in this notice is 13,649 hours. As part of its review of this ICR renewal, FRA determined some of the previous estimates were initial estimates, outdated, or duplicative.

³ For public respondents, FRA used an hourly rate of $27 per hour for the value of the public's time. FRA obtained this data from the Department of Labor, Bureau of Labor Statistics. Additionally, for railroad respondents, the dollar equivalent cost is derived from the Surface Transportation Board's 2020 Full Year Wage A&B data series for railroad workers a 75-percent overhead charge.

Total Estimated Annual Burden: 13,649 hours.

Total Estimated Annual Burden Hour Dollar Cost Equivalent: $985,062.

FRA informs all interested parties that it may not conduct or sponsor, and a respondent is not required to respond to, a collection of information that does not display a currently valid OMB control number.

Authority: 44 U.S.C. 3501-3520.

Brett A. Jortland,
Deputy Chief Counsel.

[FR Doc. 2022-09141 Filed 4-27-22; 8:45 am]

BILLING CODE 4910-06-P